DEPARTMENT OF AGRICULTURE

Forest Service

Information Collection; Timber Sale Contract Operations and Administration

AGENCY: Forest Service, USDA.

ACTION: Notice; Request for Comment.

SUMMARY: In accordance with the Paperwork Reduction Act of 1995, the Forest Service is seeking comments from all interested individuals and organizations on the revision of a currently approved Information Collection 0596-0225, Timber Sale Contract Operations and Administration.

DATES: Comments must be received in writing on or before February 7, 2014 to be assured of consideration. Comments received after that date will be considered to the extent practicable.

ADDRESSES: Comments concerning this notice should be addressed to Lathrop Smith, Natural Resources Research Center, 2150 Centre Avenue, Building A, Suite 316, Fort Collins, CO 80526-8121. Comments also may be submitted by email to contractoperations@fs.fed.us.

The public may inspect comments received at the Natural Resources Research Center, 2150 Centre Avenue, Building A, Suite 316, Fort Collins, CO 80526-8121 during normal business hours. Visitors are encouraged to call ahead to 970-295-5020 to facilitate entry to the building.

FOR FURTHER INFORMATION CONTACT: Lathrop Smith, 970-295-5961. Individuals who use telecommunication devices for the deaf (TDD) may call the Federal Relay Service (FRS) at 1-800-877-8339, 24 hours a day, every day of the year, including holidays.

SUPPLEMENTARY INFORMATION:

Title: Timber Sale Contract Operations and Administration.

OMB Number: 0596-0225.

Expiration Date of Approval: 05/31/2014.

Type of Request: Revision of a Currently Approved Information Collection.

Abstract: Forest Service contracts for the sale of timber and other forest products are bilateral contracts in which both contracting parties are bound to fulfill obligations reciprocally. By their nature, bilateral contracts require both parties to routinely share information and enter into agreements pertaining to operations and performance. Some information collected under Forest Service contracts is required by laws, regulations, and/or timber sale policies. Each contract specifies information the contractor will be required to provide, including the timing and frequency of the information collection.

The type and amount of information collected varies depending on the size, complexity, and length of each contract, and external factors such as weather and market conditions. The information collected includes plans, requests, agreements, and notices necessary for operations under the terms of the contracts. Forest Service officers collect the information from contractors who may be individuals, private sector businesses, or other government entities. The information is submitted in a variety of formats including Forest Service forms, Government Standard and/or Common Forms, forms developed by individual contractors, charts, maps, email messages, facsimiles, and letters. Also, to assist small contractors and lessen their burden, individual Contracting Officers may provide optional forms for some of the information collected. Depending on the purpose of the specific information collection, the information may be submitted by electronic mail, facsimile, conventional mail, or hand delivery.

The information is needed by the Agency for a variety of uses associated with the operations and administration of contracts for the sale of timber and other forest products, in order to: (1) Plan and schedule contract administration workloads, (2) plan and schedule the delivery of government furnished materials needed by contractors, (3) assure the safety of the public in the vicinity of contract work, (4) identify contractor resources that may be used in emergency fire-fighting situations, (5) determine contractor eligibility for additional contract time, (6) determine contractor eligibility for redetermining contract rates, (7) monitor compliance with domestic processing requirements, (8) monitor compliance with Small Business Administration requirements, (9) process agreements and modifications, and (10) inspect and accept work.

Type of Respondents: Timber sale and forest products contractors.

Estimated Annual Number of Contracts: 3,400.

Estimated Annual Number of Respondents: 1,370.

Estimated Annual Responses: 128,100.

Estimated Annual Number of Responses per Respondent: 93.5.

Estimated Total Annual Burden on Respondents: 40,700 hours.

Estimate of Average Burden per Response: 0.32 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: December 2, 2013.
James M. Pena,
Associate Deputy Chief, National Forest System.

[FR Doc. 2013-29236 Filed 12-6-13; 8:45 am]

BILLING CODE 3410-11-P